DEPARTMENT OF ENERGY

Federal Energy Regulatory Commission

[Docket No. AD08-9-000]

Review of Wholesale Electricity Markets; Notice of Conference

May 12, 2008.

The Federal Energy Regulatory Commission (Commission) will hold a conference on July 1, 2008. The Commission has invited senior management and market monitors from the jurisdictional regional transmission organizations (RTOs) and independent system operators (ISOs) to provide a review of the current and future state of regional wholesale electricity markets. Members of the Commission's staff will provide an overview of the wholesale electricity markets outside of RTOs and ISOs. A future notice will provide greater detail.

The conference will be held at the Federal Energy Regulatory Commission, 888 First Street, NE., Washington, DC 20426, in the Commission Meeting Room (2-C) from 9:30 a.m. until 4 p.m. (EST). All interested persons are invited, and there is no registration fee to attend.

This conference will be transcribed. Transcripts of the conference will be immediately available from Ace Reporting Company (202-347-3700 or 1-800-336-6646) for a fee. It will also be Web-cast. Capitol Connection offers the opportunity for remote listening and viewing of the conference. It is available for a fee, live over the Internet, by phone, or via satellite. Persons interested in receiving the broadcast, or who need information on making arrangements should contact David Reininger or Julia Morelli at the Capitol Connection (703-993-3100) as soon as possible or visit the Capitol Connection Web site at http://www.capitolconnection.gmu.edu and click on “FERC.”

Commission conferences are accessible under section 508 of the Rehabilitation Act of 1973. For accessibility accommodations please send an e-mail to accessibility@ferc.gov or call toll free 1-866-208-3372 (voice) or 202-208-1659 (TTY), or send a FAX to 202-208-2106 with the required accommodations.

Questions about the conference should be directed to Saida Shaalan by e-mail at Saida.Shaalan@FERC.gov or by phone at 202-502-8278.

Kimberly D. Bose,
Secretary.

[FR Doc. E8-11099 Filed 5-16-08; 8:45 am]

BILLING CODE 6717-01-P